DEPARTMENT OF DEFENSE

Office of the Secretary

Notice of Closed Meeting

AGENCY: Defense Intelligence Agency, Joint Military Intelligence College, DoD.

ACTION: Notice of closed meeting.

SUMMARY: Pursuant to the provisions of subsection (d) of Section 10 of Public Law 92-463, as amended by section 5 of Public Law 94-409, notice is hereby given that a closed meeting of the DIA Joint Military College Board of Visitors was held as follows:

DATES: Tuesday, 6 January 2004, 0800 to 1700; and Wednesday, 7 January 2004, 0800 to 1200.

ADDRESSES: Joint Military College, Washington, DC 20340-5100.

FOR FURTHER INFORMATION CONTACT: Mr. A. Denis Clift, President, DIA Joint Military College, Washington, DC 20340-5100, (202) 231-3344.

SUPPLEMENTARY INFORMATION: The entire meeting was devoted to the discussion of classified information as defined in section 552b(c)(1), Title 5 of the U.S. Code and therefore was closed. The Board discussed several current critical intelligence issues and advised the Director, DIA, as to the successful accomplishment of the mission assigned to the Joint Military College.

Dated: February 18, 2004.
L.M. Bynum,
Alternate OSD Federal Register Liaison Officer, DoD.

[FR Doc. 04-4043 Filed 2-24-04; 8:45 am]

BILLING CODE 5001-06-M